DEPARTMENT OF TRANSPORTATION

National Highway Traffic Safety Administration

Reports, Forms and Record Keeping Requirements; Agency Information Collection Activity Under OMB Review

AGENCY: National Highway Traffic Safety Administration, DOT.

ACTION: Notice.

SUMMARY: In compliance with the Paperwork Reduction Act of 1995 (44 U.S.C. 3501 et seq., this notice announces that the Information Collection Request (ICR) abstracted below has been forwarded to the Office of Management and Budget (OMB) for review and comment. The ICR describes the nature of the information collections and their expected burden. The Federal Register Notice with a 60-day comment period was published on October 27, 1999 [64 FR 57924-57925].

DATES: Comments must be submitted on or before March 16, 2000.

FOR FURTHER INFORMATION CONTACT: Marlene Markison at the National Highway Traffic Safety Administration, Office of State and Community Services (NSC-01), 202-366-0166. 400 Seventh Street, SW, Room 6240, Washington, DC 20590.

SUPPLEMENTARY INFORMATION:

National Highway Traffic Safety Administration

Title: 23 CFR part 1313 Certification Requirements for State Grants for Drunk Driving Prevention Program.

OMB Number: 2127—0501.

Type of Request: Extension of a currently approved collection.

Abstract: The Section 410 program was created by the Drunk Driving Prevention Act of 1988 and codified in 23 U.S.C. 410. As originally conceived, States could qualify for basic and supplemental grants under the Section 410 program if they met certain criteria. To qualify for a basic grant, States had to provide for an expedited driver's license suspension or revocation system and a self-sustaining drunk driving prevention program. Too qualify for a supplemental grant, States had to be eligible for a basic grant and provide mandatory blood alcohol testing program, an underage drinking program, an open container and consumption program, or a suspension of registration and return of license plate program.

Affected Public: Those state, local, and tribal government officials applying for impaired driving grants.

Estimated Total Annual Burden: 2,340.

ADDRESSES: Send comments, within 30 days, to the Office of Information and Regulatory Affairs, Office of Management and Budget, 725-17th Street, NW, Washington, D.C. 20503, Attention NHTSA Desk Officer.

Comments are invited on: Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology.

A Comment to OMB is most effective if OMB receives it within 30 days of publication.

Issued in Washington, DC, on February 9, 2000.
Herman L. Simms,
Associate Administrator for Administration.

[FR Doc. 00-3534 Filed 2-14-00; 8:45 am]

BILLING CODE 4910-59-P